DEPARTMENT OF TRANSPORTATION

Office of the Secretary

Notice of Applications for Certificates of Public Convenience and Necessity and Foreign Air Carrier Permits Filed Under Subpart B (Formerly Subpart Q) During the Week Ending June 12, 2010

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0148.

Date Filed: June 8, 2010.

Due Date for Answers, Conforming Applications, or Motion to Modify Scope: June 29, 2010.

Description: Application of Privilege Style, S.A. requesting an exemption and foreign air carrier permit to conduct charter foreign air transportation of persons, property and mail between a point or points in the European Community and the Member States of the European Union, and a point or points in the United States, to the full extent allowed under the Air Transport Agreement between the United States and the European community and the Member States of the European Union.

Docket Number: DOT-OST-2010-0150.

Date Filed: June 9, 2010.

Due Date for Answers, Conforming Applications, or Motion to Modify Scope: June 30, 2010.

Description: Application of Acropolis Aviation Limited requesting an exemption and a foreign air carrier permit authorizing Acropolis Aviation to engage in charter foreign air transportation of persons, property and mail to and from points in the United States to the full extent permitted by its homeland operating authority and the EU-U.S. open-skies agreement, as well as other charters pursuant to the prior approval requirements.

Renee V. Wright,
Program Manager, Docket Operations, Federal Register Liaison.

[FR Doc. 2010-16621 Filed 7-7-10; 8:45 am]

BILLING CODE 4910-9X-P